DEPARTMENT OF ENERGY

Federal Energy Regulatory Commission

[Docket No. AD12-5-000]

Voltage Coordination on High Voltage Grids; Notice of Staff Workshop

Take notice that the Federal Energy Regulatory Commission will hold a Workshop on Voltage Coordination on High Voltage Grids on Thursday, December 1, 2011 from 9 a.m. to 4:30 p.m. This staff-led workshop will be held at the Federal Energy Regulatory Commission, 888 First Street NE., Washington, DC 20426. The workshop will be open for the public to attend and advance registration is not required.

The Commission is interested in better understanding the interaction between voltage control, reliability, and economic dispatch. In addition, the Commission will consider how improvements to dispatch and voltage control software could improve reliability and market efficiency. The workshop will address how entities currently coordinate economic dispatch and voltage control and the capability of existing and emerging software to improve coordination and optimization of transfer capability across the Bulk-Power System from a reliability and economic perspective.

The agenda for this workshop will be issued at a later date. Information will be posted on the calendar page for this event on the Commission's web site, http://www.ferc.gov, prior to the event. This event will not be Web cast nor transcribed.

Commission workshops are accessible under section 508 of the Rehabilitation Act of 1973. For accessibility accommodations, please send an email to accessibility@ferc.gov or call toll free 1-(866) 208-3372 (voice) or (202) 208-1659 (TTY), or send a FAX to (202) 208-2106 with the required accommodations.

For more information about this conference, please contact: Sarah McKinley, Office of External Affairs, Federal Energy Regulatory Commission, 888 First Street NE., Washington, DC 20426, (202) 502-8368, sarah.mckinley@ferc.gov.

Dated: November 8, 2011.
Kimberly D. Bose,
Secretary.

[FR Doc. 2011-29404 Filed 11-14-11; 8:45 am]

BILLING CODE 6717-01-P